DEPARTMENT OF TRANSPORTATION

Office of the Secretary

Notice of Applications for Certificates of Public Convenience and Necessity and Foreign Air Carrier Permits Filed Under Subpart B (Formerly Subpart Q) During the Week Ending March 28, 2009

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0076.

Date Filed: March 26, 2009.

Due Date for Answers, Conforming Applications, or Motion to Modify Scope: April 16, 2009.

Description: Application of DHL Air Limited requesting a foreign air carrier permit and an exemption authorizing it to engage in: (a) Scheduled and charter foreign air transportation of property and mail from any point or points behind any Member State of the European Union via any point or points in any Member State and via intermediate points to any point or points in the United States and beyond; (b) scheduled and charter foreign air transportation of property and mail between any point or points in the United States and any point or points in any member of the European Common Aviation Area; (c) scheduled and charter foreign air transportation of property and mail between any point or points in the United States and any point or points; (d) other charters pursuant to the prior approval requirements; and (e) transportation authorized by any additional route rights made available to European community carriers in the future.

Barbara J. Hairston,
Supervisory Dockets Officer, Docket Operations, Alternate Federal Register Liaison.

[FR Doc. E9-7961 Filed 4-7-09; 8:45 am]

BILLING CODE 4910-9X-P